DEPARTMENT OF HEALTH AND HUMAN SERVICES

National Institutes of Health

Center for Scientific Review; Amended Notice of Meeting

Notice is hereby given of a change in the meeting of the Center for Scientific Review Special Emphasis Panel, February 10, 2003, 8 a.m. to February 10, 2003, 4 p.m., which was published in the Federal Register on January 29, 2003, 68 FR 4501-4503.

The meeting will be two days February 9-10, 2003, from 7:30 p.m. to 4 p.m. The location remains the same. The meeting is closed to the public.

Dated: February 6, 2003.
LaVerne Y. Stringfield,
Director, Office of Federal Advisory Committee Policy.

[FR Doc. 03-3626 Filed 2-13-03; 8:45 am]

BILLING CODE 4140-01-M